EXPORT-IMPORT BANK OF THE UNITED STATES

Economic Impact Policy

This notice is to inform the public that the Export-Import Bank United is re-notifying this transaction due to a request for increased financing. The foreign borrower is requesting a $1.03 billion long-term guarantee to support the export of approximately $910 million in U.S. semiconductor manufacturing equipment and services to a dedicated foundry in Germany. The U.S. exports will enable the dedicated foundry to increase existing 300mm (non-DRAM) production capacity of logic semiconductors by approximately 34,000 wafers per month. Available information indicates that this new production will be consumed globally.

Interested parties may submit comments on this transaction by email to economic.impact@exim.gov or by mail to 811 Vermont Avenue, NW., Room 442, Washington, DC 20571, within 14 days of the date this notice appears in the Federal Register.

Kathryn Hoff-Patrinos,
Deputy General Counsel.

[FR Doc. 2012-19632 Filed 8-9-12; 8:45 am]

BILLING CODE 6690-01-P